DEPARTMENT OF AGRICULTURE

Forest Service

Final Record of Decision for the Tonto National Forest

AGENCY: Forest Service, Agriculture (USDA).

ACTION: Notice of approval of the revised Land Management Plan for the Tonto National Forest.

SUMMARY: Neil Bosworth, the Forest Supervisor for the Tonto National Forest, Southwestern Region, signed the Final Record of Decision (ROD) for the revised Land Management Plan (LMP) for the Tonto National Forest. The ROD documents the rationale for approving the revised LMP and is consistent with the Reviewing Officer's responses to objections and instructions.

DATES: The revised LMP for the Tonto National Forest will become effective 30 days after the publication of this notice of approval in the Federal Register (36 CFR 219.17(a)(1)).

ADDRESSES: To view the final ROD, Final Environmental Impact Statement (FEIS), revised LMP, and other related documents, please visit the Tonto National Forest website at: https://www.fs.usda.gov/main/tonto/landmanagement/planning. A legal notice of approval is also being published in the newspaper of record, the Arizona Capitol Times. A copy of this legal notice will be posted on the Tonto National Forest's website as listed above.

FOR FURTHER INFORMATION CONTACT: Tyna Yost, Acting Forest Planner, Tonto National Forest, by telephone 602-225-5200 or via email at SM.FS.tontoplan@usda.gov.

Individuals who use telecommunication devices for the deaf and hard of hearing (TDD) may call the Federal Relay Service at 800-877-8339, 24 hours a day, every day of the year, including holidays. Written requests for information may be sent to Tonto National Forest, Attn: Tonto National Forest Plan Revision, 2324 E McDowell Rd., Phoenix, AZ 85006.

SUPPLEMENTARY INFORMATION: The Tonto National Forest covers six ranger districts across nearly 2.9 million acres of National Forest System land in central Arizona overlapping the counties of Coconino, Gila, Maricopa, Pinal, and Yavapai. The LMP was developed pursuant to the 2012 Forest Service Planning Rule (36 CFR 219) and will replace the 1985 LMP. The revised LMP describes desired conditions, objectives, standards, guidelines, and land suitability for project and activity decision-making and will guide all resource management activities on the Forest.

The Tonto National Forest plays an important role supporting and partnering with communities in central Arizona and throughout the southwestern United States by providing economic benefits including fuelwood gathering, livestock grazing, mining, and abundant recreational opportunities. The development of the revised LMP was shaped by the best available scientific information, current laws, and public input.

The Tonto National Forest lies adjacent to the Phoenix metropolitan area, making it one of the most heavily visited National Forests. It spans a range of ecosystems from the Sonoran Desert through a variety of chaparral and pinyon pine/juniper up to the ponderosa pine and mixed conifer of the Mogollon Rim. The Tonto's rivers and lakes maintain riparian habitat and habitat connectivity for wildlife, including most of the Forest's Endangered Species Act listed species, and provide diverse opportunities for water-based recreation. Additionally, over half of the water supply for the city of Phoenix comes from these reservoirs.

The Tonto National Forest initiated LMP revision in 2014 and engaged the public frequently throughout the process. This engagement effort has included conventional public meetings, information sharing via social media, and collaborative work sessions with cooperating agencies. The Forest invited State, local, and Tribal governments, and other Federal Agencies from around the region to participate in the process to revise the LMP. The Tonto National Forest engaged in government-to-government consultation with 13 Tribes during LMP revision, ensuring tribal-related LMP direction accurately reflects the Tonto National Forest's trust responsibilities and government-to-government relationship with tribes. During the 90-day comment period in 2019 for the draft LMP and draft EIS, the Tonto National Forest received approximately 4,300 comment letters of which 181 were unique. These helped refine the preferred alternative and LMP content based on response to comments.

A draft ROD, LMP, and FEIS were released in July 2022, initiating a 60-day objection filing period. The Tonto National Forest received 14 eligible objections. Through a comprehensive review of each objection, a variety of issues were identified. Following the objection review, the Reviewing Officer held objection resolution meetings with objectors and interested persons. Based on these meetings, the Reviewing Officer issued a written response on May 19, 2023. The instructions from the Reviewing Officer were addressed in the ROD, LMP, and FEIS.

Lead and Cooperating Agencies

The Arizona Game and Fish Department and Arizona Department of Agriculture are formal cooperating agencies and have participated in the development of the LMP, helping to develop plan direction and associated analysis for wildlife-related recreation and the Salt River Horse management area, respectively, for which they are subject matter experts.

Responsible Official

The Responsible Official for approving the revised LMP is Neil Bosworth, Forest Supervisor, Tonto National Forest. The Responsible Official approving the list of species of conservation concern is Michiko Martin, Regional Forester, Southwestern Region.

Dated: November 29, 2023.
Troy Heithecker,
Associate Deputy Chief, National Forest System.

[FR Doc. 2023-26961 Filed 12-7-23; 8:45 am]

BILLING CODE 3411-15-P